DEPARTMENT OF DEFENSE

Department of the Army, Corps of Engineers

Intent To Prepare an Environmental Impact Statement (EIS) for the Alaska Department of Transportation & Public Facilities Foothills West Transportation Access Project

AGENCY: U.S. Army Corps of Engineers, Department of Defense.

ACTION: Notice of Intent.

SUMMARY: The Alaska District, U.S. Army Corps of Engineers (Corps) intends to prepare a Draft Environmental Impact Statement (DEIS) to identify and analyze the potential impacts associated with the proposed Foothills West Transportation Access Project (Foothills Project). The Corps is the lead Federal agency; the Bureau of Land Management (BLM) and the Alaska Department of Natural Resources (ADNR) are participating as cooperating agencies in the DEIS development process. The Corps will be evaluating a permit application for work under Section 10 of the Rivers and Harbors Act of 1899 and Section 404 of the Clean Water Act. The Environmental Impact Statement (EIS) will be used as a basis for the permit decision and to ensure compliance with the National Environmental Policy Act (NEPA).

FOR FURTHER INFORMATION CONTACT: Questions about the proposed action and the DEIS can be answered by: Ms. Melissa Riordan, Regulatory Division, telephone: (907) 474-2166, or mail: U.S. Army Corps of Engineers, CEPOA-RD, 2175 University Avenue, Suite 201(E), Fairbanks, AK 99709-4927. You may also request to be added to the mailing list and find additional information at the following Web site: http://www.foothillswesteis.com.

SUPPLEMENTARY INFORMATION: 1. Proposed Action. The Department of Transportation and Public Facilities (DOT&PF) is proposing to construct an all-season transportation access road from the Dalton Highway to Umiat, to increase access to potential oil and gas resources for exploration and development along the northwestern foothills of the Brooks Range, and within the National Petroleum Reserve—Alaska (NPR-A). The project is considered an important investment by the State of Alaska to further oil and gas resource exploration and development opportunities to benefit Alaska's economy.

The proposed Foothills Project area is within the North Slope Foothills Areawide Oil and Gas Lease Sale Area between the Dalton Highway and Umiat. The project area is within the North Slope Borough; south of the Umiat baseline (principal east-west line dividing survey townships 1 north and 1 south of the Umiat Quadrangle, Alaska), west of the Dalton Highway, north of the Gates of the Arctic National Park and Preserve, and east of the National Petroleum Reserve—Alaska.

Construction components of this project would include an all-season gravel road, associated bridges and other crossing structures (i.e., culverts), pull-outs, maintenance facilities, temporary construction camps, and material sites. The road would be designed to safely accommodate industrial traffic in arctic conditions. Although the road may be closed to the public during periods of exploration, development and production activities, the road may eventually be open to the general public. Depending upon the final route alignment, there could be up to six major river crossings. These are the Anaktuvuk, Chandler, Colville, Itkillik, Kuparuk, and Toolik rivers. Bridges and other crossing structures would be designed to accommodate industrial activities and weight loads associated with oil and gas pipelines. While subsequent efforts by industry to develop infrastructure such as oil and gas pipelines and their associated components are reasonably foreseeable, these elements are not proposed by this action.

2. Alternatives. A reasonable range of alternatives will be identified and evaluated through scoping and the EIS process. The DOT&PF has identified several possible road corridors between the Dalton Highway and Umiat within the Foothills Project area, including a preferred corridor that goes from Galbraith Lake at milepost 278 on the Dalton Highway and heads in a northerly, and then northwesterly, route to Umiat. The intent of the DOT&PF is to identify a feasible corridor that concurrently accesses areas with high oil and gas potential, minimizes the distance between the road corridor and likely exploration areas, and traverses as much state land as possible. One or more corridors will be identified through scoping. Within the corridor(s), additional analysis would be conducted to determine optimal road alignments and river crossing locations.

3. Scoping Process. The scoping period will begin on May 20, 2011 and end on July 5, 2011.

a. Public involvement. The Corps invites full public participation to promote open communication on the issues to be addressed regarding the proposed action. All Federal, state, Tribal, and local agencies, and other interested persons or organizations with an interest are urged to participate in the NEPA scoping process. Scoping meetings will be held to receive public input on the development of proposed alternatives to be reviewed in the EIS, and to identify significant issues to be analyzed.

b. Scoping meetings. The Corps plans to hold scoping meetings in Anaktuvuk Pass, Anchorage, Barrow, Fairbanks, and Nuiqsut. Information about these meetings and meeting dates will be published locally, posted at http://www.foothillswesteis.com, or available by contacting the Corps as described above. A description of the proposed project will be posted on the project Web site prior to these meetings to help the public focus their scoping comments.

4. Major Issues To Be Analyzed in the DEIS. The DEIS will analyze the potential social, economic, physical, and biological impacts on the affected areas. The following major issues will be analyzed in depth in the DEIS: road construction and operation and its effect on the surrounding communities; water resources; fish and wildlife; cultural and subsistence resources; hazardous materials; human health; socioeconomics; and secondary and cumulative impacts.

5. Other Environmental Review and Consultation Requirements. Other environmental review and consultation requirements include: Magnuson Stevens Act for Essential Fish Habitat identification, Executive Order 13175 Consultation and Coordination with Indian Tribal Governments; Section 106 of the National Historic Preservation Act of 1966; Section 9 of the Rivers and Harbors Act of 1899; and subsistence uses in accordance with Section 810 of the Alaska National Interest Lands Conservation Act (ANILCA).

6. Land Ownership. The lands within the Foothills Project area are mostly state lands, but also include Federal lands administered by the BLM, Arctic Slope Regional Corporation lands, and private lands.

7. Estimated Date DEIS Available to Public. It is anticipated that the DEIS will be available June 2012 for public review.

Dated: May 5, 2011.
Melissa C. Riordan,
Project Manager, Alaska District, U.S. Army Corps of Engineers.

[FR Doc. 2011-12371 Filed 5-19-11; 8:45 am]

BILLING CODE 3720-58-P